DEPARTMENT OF DEFENSE

Office of the Secretary

[Transmittal No. 15-57]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-57 with attached Policy Justification and Sensitivity of Technology.

Dated: December 8, 2015.
Aaron Siegel,
Alternate OSD Federal Register Liaison Officer, Department of Defense.

BILLING CODE 5001-06-P

BILLING CODE 5001-06-C

Transmittal No. 15-57

Notice of Proposed Issuance of Letter of Offer Pursuant to Section 36(b)(1) of the Arms Export Control Act, as amended

(i) Prospective Purchaser: Government of Saudi Arabia

(ii) Total Estimated Value:

Major Defense Equipment* | $1.10 billiion
Other | $.19 billion
Total | $1.29 billion

(iii) Description and Quantity or Quantities of Articles or Services under Consideration for Purchase:

Major Defense Equipment (MDE) includes:

One thousand (1000) GBU-10 Paveway II Laser Guided Bombs (LGBs)

Two thousand, three hundred (2,300) BLU-117/MK-84 2000lb General Purpose (GP) Bombs

Four thousand twenty (4,020) GBU-12 Paveway II LGBs

Eight thousand twenty (8,020) BLU-111/MK-82 500lb GP Bombs

One thousand, one hundred (1,100) GBU-24 Paveway III LGBs

One thousand, five hundred (1,500) BLU-109 2000lb Penetrator Warheads

Four hundred (400) GBU-31(V1) KMU-556 Joint Direct Attack Munitions (JDAM) tail kits

One thousand (1,000) GBU-31(V3) KMU-557 JDAM tail kits

Three thousand (3,000) GBU-38 KMU-572 JDAM tail kits

Two thousand (2,000) GBU-48 Enhanced Paveway II, dual mode Global Positioning System (GPS)/LGB with the MXU-667 Airfoil and the MAU-169L/B Computer Control Group (CCG) Dual mode

Two thousand (2,000) BLU-110/MK-83 1000lb GP Bombs

Five hundred (500) GBU-54 KMU-572 Laser JDAM tail kits, dual mode GPS/LGB with the MXU-667 Airfoil and the MAU-169L/B CCG Dual mode

Three hundred (300) GBU-56 KMU 556 Laser JDAM tail kits, dual mode GPS/LGB with the MXU-667 Airfoil and the MAU-169L/B CCG Dual mode

Ten thousand two hundred (10,200) FMU-152 Fuzes

This request also includes the following Non-MDE items and services: procurement of bomb equipment components such as adaptors, nose plugs, fusing mechanisms, swivels, support links and connections; associated support equipment; publications, such as technical orders, and system manuals; training; engineering and technical support; transportation (to include special airlift support); program management; and other administrative support and related services.

(iv) Military Department: USAF (X7-D-ACI, X7-D-ACJ, X7-D-ACQ)

(v) Prior Related Cases, if any:

FMS Case AAI

FMS Case AAM

FMS Case AJX

FMS Case AAP

FMS Case AJO

FMS Case SAO $3.85-billion, CN 10-43

FMS Case SAP $8.31-billion, CN 10-43

FMS Case SRC $8.05-billion, CN 92-42, 98-36, 00-63

FMS Case YPW $ $57.2-million, CN 84-23, 92-42

(vi) Sales Commission, Fee, etc., Paid, Offered, or Agreed to be Paid: None

(vii) Sensitivity of Technology Contained in the Defense Article or Defense Services Proposed to be Sold: See Attached Annex

(viii) Date Report Delivered to Congress: 13 NOV 2015

*As defined in Section 47(6) of the Arms Export Control Act.

POLICY JUSTIFICATION

The Government of Saudi Arabia—Air-to-Ground Munitions

The Government of Saudi Arabia requested approval to procure the following:

Major Defense Equipment (MDE) includes:

One thousand (1000) GBU-10 Paveway II Laser Guided Bombs (LGBs)

Two thousand, three hundred (2,300) BLU-117/MK-84 2000lb General Purpose (GP) Bombs

Four thousand twenty (4,020) GBU-12 Paveway II LGBs

Eight thousand twenty (8,020) BLU-111/MK-82 500lb GP Bombs

One thousand, one hundred (1,100) GBU-24 Paveway III LGBs

One thousand, five hundred (1,500) BLU-109 2000lb Penetrator Warheads

Four hundred (400) GBU-31(V1) KMU-556 Joint Direct Attack Munitions (JDAM) tail kits

One thousand (1,000) GBU-31(V3) KMU-557 JDAM tail kits

Three thousand (3,000) GBU-38 KMU-572 JDAM tail kits

Two thousand (2,000) GBU-48 Enhanced Paveway II, dual mode Global Positioning System (GPS)/LGB with the MXU-667 Airfoil and the MAU-169L/B Computer Control Group (CCG) Dual mode

Two thousand (2,000) BLU-110/MK-83 1000lb GP Bombs

Five hundred (500) GBU-54 KMU-572 Laser JDAM tail kits, dual mode GPS/LGB with the MXU-667 Airfoil and the MAU-169L/B CCG Dual mode

Three hundred (300) GBU-56 KMU 556 Laser JDAM tail kits, dual mode GPS/LGB with the MXU-667 Airfoil and the MAU-169L/B CCG Dual mode

Ten thousand two hundred (10,200) FMU-152 Fuzes

This request also includes the following Non-MDE items and services: procurement of bomb equipment components such as adaptors, nose plugs, fusing mechanisms, swivels, support links and connections; associated support equipment; publications, such as technical orders, and system manuals; training; engineering and technical support; transportation (to include special airlift support); program management; and other administrative support and related services. The total estimated MDE value is $1.10 billion, and the estimated total overall value is $1.29 billion.

The purchase replenishes the Royal Saudi Air Force's (RSAF) current weapons supplies, which are becoming depleted due to the high operational tempo in multiple counter-terrorism operations. The purchase of these munitions rebuilds war reserves and provides options for future contingencies.

The RSAF will have no issues fielding, supporting, and employing these munitions.

The proposed sale augments Saudi Arabia's capability to meet current and future threats from potential adversaries during combat operations. Providing these defense articles supports Saudi Arabian defense missions and promotes stability in the region.

This acquisition will help sustain strong military-to-military relations between the United States and Saudi Arabia, improve operational interoperability with the United States, and enable Saudi Arabia to meet regional threats and safeguard the world's largest oil reserves.

This acquisition contributes to the foreign policy and national security of the United States by increasing the security of an important partner that continues to be a significant force for political stability and economic progress in the Middle East. Sustaining Saudi military capabilities deters hostile actors, increases U.S.-Saudi military interoperability, and has a positive impact on the stability of the global economy. This acquisition also directly conveys U.S. commitment to the RSAF's current and future ability to sustain combat operations.

The prime contractor will be determined by competition. There are no known offset agreements proposed in connection with this potential sale.

There is no adverse impact on U.S. defense readiness as a result of this proposed sale.

Transmittal No. 15-57

Notice of Proposed Issuance of Letter of Offer Pursuant to Section 36(b)(1) of the Arms Export Control Act

Annex

Item No. vii

(vii) Sensitivity of Technology:

1. GBU-10 Paveway II Laser Guided 2000-lb bombs and Paveway II Laser Guided GBU-12 500-lb munitions use general purpose (GP) bombs bodies that are fitted with the MXU-651/650 airfoil and the MAU-169 L/B Computer Control Group (CCG) to convert them to Laser Guided Bombs (LGBs). The LGB is a maneuverable, free-fall weapon that guides to a spot of laser energy reflected off of the target. The LGB is delivered like a normal GP warhead and the semi-active guidance corrects for many of the normal errors inherent in any delivery system. The hardware is UNCLASSIFIED. Information revealing the probability of destroying common/unspecified targets, the number of simultaneous lasers the laser seeker head can discriminate, and data on the radar/infra-red frequency is classified CONFIDENTIAL.

2. GBU-31(VI) 2000-lb/GBU-38 500-lb Joint Direct Attack Munitions (JDAMs) are general purpose bombs fitted with an FMU-152A/B fuze and a KMU-556B/B (KMU-572B/B) guidance tail kit that converts unguided free-fall bombs into accurate, all weather, Global Positioning System (GPS) guided “smart” munitions. Information revealing target designation tactics and associated aircraft maneuvers, the probability of destroying specific/peculiar targets, vulnerabilities regarding countermeasures and the electromagnetic environment is classified SECRET. Information revealing the probability of destroying common/unspecified targets is classified CONFIDENTIAL.

3. GBU-31(V3) Joint Direct Attack Munitions (JDAMs) are 2000-lb JDAM equipped with the BLU-109 C/B forged steel penetrator warhead. The bomb body is approximately twice as thick as a typical 2000-lb warhead. This hardened case, along with a solid nose, allows it to penetrate hardened targets. All other technical details and risks are identical to the GBU-31(V1) above.

4. The GBU-24 Paveway III (PWIII) is a 2000-lb laser-guided munition that can be employed at high, medium and low altitudes. It utilizes the FMU-139A/B Fuze, BSU-84 airfoil and WGU-43C/B guidance control unit (GCU). Both the MK-84 conventional warhead and the BLU-109 penetrating warhead can be utilized, similar to GBU-31(V1) and GBU-31(V3). Design improvements over versions include proportional navigation, increased terminal accuracy, off-axis release envelopes, trajectory shaping, and target reacquisition capability. Information revealing target designation tactics and associated aircraft maneuvers, the probability of destroying specific/peculiar targets, vulnerabilities regarding countermeasures and the electromagnetic environment is classified SECRET. Information revealing test boundaries, operational envelop and release points, the probability of destroying common/unspecified targets, the number of simultaneous lasers the laser seeker head can discriminate, the terminal impact conditions, the operational flight programming, laser seeker sensitivity and range, laser seeker field of view and field of regard, laser seeker tracking gate widths, laser pulse stability requirements, laser pulse width discrimination details, and data on the radar/infra-red frequency is classified CONFIDENTIAL.

5. The GBU-48 is a 1000-lb (MK-83 or BLU-110) Enhanced Paveway II, dual mode GPS/LGB with the MXU-667 Airfoil and the MAU-169L/B CCG. The laser sensor enhances standard GPS guidance by allowing rapid prosecution of moving targets or fixed targets with large initial target location errors (TLE). Information revealing target designation tactics and associated aircraft maneuvers, the probability of destroying specific/peculiar targets, vulnerabilities regarding countermeasures and the electromagnetic environment is classified SECRET. Information revealing the probability of destroying common/unspecified targets, the number of simultaneous lasers the laser seeker head can discriminate, and data on the radar/infra-red frequency is classified CONFIDENTIAL.

6. The GBU-54/56s are the dual-mode laser JDAM variants of the GBU-38/GBU-31 JDAM. The nose fuzes are replaced with DSU-38/DSU-40s, which give the weapons both GPS and laser guidance capability. The laser sensor enhances the standard JDAM's reactive target capability by allowing rapid prosecution of fixed targets with large initial target location errors (TLE). The addition of the laser sensor combined with additional cabling and mounting hardware turns a standard JDAM into a Laser JDAM. Information revealing target designation tactics and associated aircraft maneuvers, the probability of destroying specific/peculiar targets, vulnerabilities regarding countermeasures and the electromagnetic environment is classified SECRET. Information revealing the probability of destroying common/unspecified targets, the number of simultaneous lasers the laser seeker head can discriminate, and data on the radar/infra-red frequency is classified CONFIDENTIAL.

7. If a technologically advanced adversary were to obtain knowledge of the specific hardware and software elements, the information could be used to develop countermeasures which might reduce weapon system effectiveness or be used in the development of a system with similar or advanced capabilities.

8. A determination has been made that the Government of Saudi Arabia can provide substantially the same degree of protection for the sensitive technology being released as the U.S. Government. This sale is necessary in furtherance of the U.S. foreign policy and national security objectives outlined in the Policy Justification. All defense articles and services listed in this transmittal have been authorized for release and export to Saudi Arabia.

9. This sale is necessary in furtherance of the U.S. foreign policy and national security objectives outlined in the Policy Justification. Moreover, the benefits to be derived from this sale, as outlined in the Policy Justification, outweigh the potential damage that could result if the sensitive technology were revealed to unauthorized persons.

[FR Doc. 2015-31272 Filed 12-10-15; 8:45 am]

BILLING CODE 5001-06-P